ENVIRONMENTAL PROTECTION AGENCY

40 CFR Parts 52 and 70

[EPA-R07-OAR-2008-0895; FRL-9096-5]

Approval and Promulgation of Implementation Plans and Operating Permits Program; State of Iowa

AGENCY: Environmental Protection Agency (EPA).

ACTION: Proposed rule.

SUMMARY: EPA proposes to approve revisions to the Iowa State Implementation Plan (SIP) and Iowa Operating Permits Program submitted by the State on November 18, 2008. The purpose of these revisions is to update existing air quality rules; make corrections, clarifications and improvements; add information with regard to control of fugitive dust; clarify the opacity limit for incinerators; update Prevention of Significant Deterioration (PSD) permitting requirements, and add rules for temporary operation of small generators during periods of disaster. EPA is approving the SIP provisions pursuant to section 110 of the CAA. EPA is approving the state operating permits revisions pursuant to section 502 of the CAA and implementing regulations.

DATES: Comments on this proposed action must be received in writing by January 28, 2010.

ADDRESSES: Submit your comments, identified by Docket ID No. EPA-R07-OAR-2008-0895, by mail to Tracey Casburn, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Tracey Casburn at (913) 551-7016, or by e-mail at casburn.tracey@epa.gov.

SUPPLEMENTARY INFORMATION: In the final rules section of the Federal Register, EPA is approving the state's revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: December 15, 2009.
William Rice,
Acting Regional Administrator, Region 7.

[FR Doc. E9-30776 Filed 12-28-09; 8:45 am]

BILLING CODE 6560-50-P